FEDERAL COMMUNICATIONS COMMISSION

47 CFR Part 73

[MB Docket No. 23-126; FCC 23-112; FR ID 220976]

Low Power Protection Act

AGENCY: Federal Communications Commission.

ACTION: Final rule; announcement of operational date.

SUMMARY: In this document, the Federal Communications Commission (Commission) announces that the Office of Management and Budget (OMB) has approved, for a period of three years, the information collection requirements associated with the Commission's rules in a Report and Order that implements the Low Power Protection Act. The Commission's Report and Order stated that the Commission would publish a document in the Federal Register announcing the effective date of those rules. However, due to a drafting technicality, those requirements are already effective. This document announces that the requirements are operational.

DATES: The amendments to the Commission's rules at 47 CFR 73.6030(c) and (d), published at 89 FR 1466, January 10, 2024, are operational May 31, 2024.

FOR FURTHER INFORMATION CONTACT: Kim Matthews, Policy Division, Media Bureau, at 202-418-2154, or via email at kim.matthews@fcc.gov.

SUPPLEMENTARY INFORMATION: This document announces that, on May 7, 2024, OMB approved the information collection requirements contained in §§ 73.6030(c) and (d) of the Commission's rules. The OMB Control Number is 3060-1326. In addition, on May 7, 2024, OMB approved the information collection requirements associated with a revision to FCC Form 2100, Application for Media Bureau Audio and Video Service Authorization, Schedule F (formerly FCC 302-CA). The OMB Control Number is 3060-0928. The Commission publishes this document as an announcement of the operational date of these rules. If you have any comments on the burden estimates listed below, or how the Commission can improve the collections and reduce any burdens caused thereby, please contact Cathy Williams, Federal Communications Commission, Room 3-317, 45 L Street NE, Washington, DC 20554. Please include the OMB Control Number, 3060-1326 and/or 3060-0928, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on May 7, 2024, for the information collection requirements contained in new § 73.6030(c) and (d) of the Commission's rules and the information collection requirements contained in revisions to FCC Form 2100, Schedule F.

Under 5 CFR 1320, an agency may not conduct or sponsor a collection of information unless it displays a current, valid OMB Control Number.

No person shall be subject to any penalty for failing to comply with a collection of information subject to the Paperwork Reduction Act that does not display a current, valid OMB Control Number.

The foregoing notice is required by the Paperwork Reduction Act of 1995, Public Law 104-13, October 1, 1995, and 44 U.S.C. 3507.

The total annual reporting burdens and costs for the respondents are as follows:

OMB Control Number: 3060-1326.

OMB Approval Date: May 7, 2024.

OMB Expiration Date: May 31, 2027.

Title: Class A Television Stations—Low Power Protection Act.

Respondents: Business or other for-profit entities, not-for-profit institutions, and state, local, or tribal governments.

Number of Respondents and Responses: 50 respondents; 250 responses.

Estimated Time per Response: 1 hour.

Frequency of Response: One-time reporting requirement.

Obligation to Respond: Required to obtain or retain benefits. Statutory authority for this collection of information is contained in 47 U.S.C. 151, 152, 154(i), 154(j), 303, 307, 309, 311, 336(f), and the Low Power Protection Act, Public Law 117-344, 136 Stat. 6193 (2023).

Total Annual Burden: 250 hours.

Total Annual Cost: No cost.

Needs and Uses: The Commission will use the information collected under this information collection to determine whether applicants can convert to Class A status pursuant to the Low Power Protection Act.

On December 11, 2023, the Commission adopted a Report and Order to implement the Low Power Protection Act (LPPA or Act), which was enacted on January 5, 2023. The LPPA provides certain low power television (LPTV) stations with a limited window of opportunity to apply for primary spectrum use status as Class A television stations. The Report and Order establishes the period during which eligible stations may file applications for Class A status, eligibility and interference requirements, and the process for submitting applications.

The Report and Order adopts new rules 47 CFR 73.6030(c) and (d) which contain information collections. Section 73.6030(c) provides that applications for conversion to Class A status must be submitted using FCC Form 2100, Schedule F within one year beginning on the date on which the Commission issues notice that the rules implementing the Low Power Protection Act take effect. The licensee will be required to submit, as part of its application, a statement concerning the station's operating schedule during the 90 days preceding January 5, 2023 and a list of locally produced programs aired during that time period. The applicant may also submit other documentation, or may be requested by Commission staff to submit other documentation, to support its certification that the licensee meets the eligibility requirements for a Class A license under the Low Power Protection Act. Section 73.6030(d) provides that A Class A television broadcast license will only be issued under the Low Power Protection Act to a low power television licensee that files an application for a Class A Television license (FCC Form 2100, Schedule F), which is granted by the Commission.

Under this new information collection, the Commission will collect the information, disclosures, and certifications required by § 73.6030(c) and (d) of the Commission's rules from each applicant seeking to convert to Class A status and will use the information, disclosures, and certifications to determine whether an applicant is qualified to convert to a Class A station. Without the information collected, the Commission will not be able to determine if an applicant is qualified to become a Class A station under the LPPA.

OMB Control Number: 3060-0928.

OMB Approval Date: May 7, 2024.

OMB Expiration Date: May 31, 2027.

Title: FCC Form 2100, Application for Media Bureau Audio and Video Service Authorization, Schedule F (Formerly FCC 302-CA); 47 CFR 73.6028; Section 73.3700(b)(3); Section 73.3700(h)(2) and Section 73.3572(h).

Form Number: FCC Form 2100, Schedule F.

Respondents: Business or other for-profit entities, not-for-profit institutions; State, local, or Tribal Government.

Number of Respondents and Responses: 115 respondents; 165 responses.

Estimated Time per Response: 2 hours.

Frequency of Response: On occasion reporting requirement and One-time reporting requirement.

Obligation to Respond: Required to obtain or retain benefits. Statutory authority for the collection of information associated with the LPPA is contained in 47 U.S.C. 151, 152, 154(i), 154(j), 303, 307, 309, 311, 336(f), and the Low Power Protection Act, Public Law 117-344, 136 Stat. 6193 (2023).

Statutory authority for the collection of information associated with the CBPA is contained in 47 U.S.C. 154(i), 307, 308, 309, and 319, and the Community Broadcasters Protection Act of 1999, and the Middle Class Tax Relief and Job Creation Act of 2012.

Total Annual Burden: 460 hours.

Total Annual Cost: $41,725.

Needs and Uses: The FCC Form 2100, Schedule F is used by Low Power TV (LPTV) stations that seek to convert to Class A status; existing Class A stations seeking a license to cover their authorized construction permit facilities; and Class A stations entering into a channel sharing agreement. The FCC Form 2100, Schedule F requires a series of certifications by the Class A applicant as prescribed by the Community Broadcasters Protection Act of 1999 (CBPA). Licensees will be required to provide weekly announcements to their listeners: (1) informing them that the applicant has applied for a Class A license and (2) announcing the public's opportunity to comment on the application prior to Commission action.

On December 11, 2023, the Commission adopted a Report and Order, FCC 23-112, to implement the Low Power Protection Act (LPPA or Act), which was enacted on January 5, 2023. The LPPA provides certain low power television (LPTV) stations with a limited window of opportunity to apply for primary spectrum use status as Class A television stations. The Report and Order establishes the period during which eligible stations may file applications for Class A status, eligibility and interference requirements, and the process for submitting applications. The Report and Order provides that applications to convert to Class A status under the Low Power Protection Act must be filed using FCC Form 2100, Schedule F. The application form requires certifications by the applicant as prescribed by the LPPA. This submission was made to OMB for approval of the modified FCC Form 2100, Schedule F. In addition, LPTV stations that file an application to convert to Class A status must provide local public notice of the filing of the application pursuant to 47 CFR 73.3580(c). Specifically, the station must both broadcast on-air announcements and give online notice. This submission also reflects the burden associated with that information collection and was made to request Office of Management and Budget (OMB) approval of that collection.

Federal Communications Commission.
Marlene Dortch,
Secretary.

[FR Doc. 2024-11493 Filed 5-30-24; 8:45 am]

BILLING CODE 6712-01-P